DEPARTMENT OF HEALTH AND HUMAN SERVICES

Centers for Disease Control and Prevention

[60Day-11-11HD]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Daniel Holcomb, CDC Acting Reports Clearance Officer, 1600 Clifton Road, MS D-74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Study of Comprehensive Cancer Control and Tobacco Control Program Partnerships — New — Division of Cancer Prevention and Control, National Center for Chronic Disease Prevention and Health Promotion, Centers for Disease Control and Prevention (CDC).

Background and Brief Description

Tobacco use remains the leading preventable cause of death in the United States, causing over 443,000 deaths each year and resulting in an annual cost of more than $96 billion in direct medical expenses. According to the latest Report of the Surgeon General (2010), “How Tobacco Causes Disease,” damage from tobacco smoke is immediate. Inhaling the over 7,000 chemicals and compounds in tobacco smoke causes immediate and long-term damage and leads to disease, including cancer, and death. The only proven strategy for reducing the risk of tobacco-related morbidity and mortality is to never smoke, or to quit if tobacco use has been initiated.

In 1999, CDC's Office on Smoking and Health (OSH) established the National Tobacco Control Program (NTCP) to encourage coordinated, national efforts to reduce tobacco-related morbidity and mortality. The NTCP provides funding and technical support to Tobacco Control Programs (TCPs) in all 50 states, the District of Columbia, seven tribal support centers, eight U.S. territories or jurisdictions, and six national networks. NTCP awardees implement evidence-based tobacco control policies and interventions including telephone quitlines to increase tobacco use cessation.

Tobacco control is also a top priority for federally-funded cancer control programs. Currently, 65 organizations are funded through CDC's National Comprehensive Cancer Control Program (NCCCP): all 50 states, the District of Columbia, seven tribes/tribal organizations, and seven U.S. territories/Pacific Island Jurisdictions. NCCCP grantees are charged with establishing NCCCP coalitions, assessing the burden of cancer, and developing and implementing comprehensive cancer control (CCC) plans. The CCC plans address interventions across the cancer continuum from primary prevention to treatment and survivorship. The NCCCP is managed by CDC's Division of Cancer Prevention and Control (DCPC).

CDC recognizes the need for increased collaboration between CCCs and TCPs. Toward this end, CDC plans to conduct a study of current partnership efforts involving NCCCP awardees and NTCP awardees. Information will be collected to improve understanding of the ways in which CCCs and TCPs may collaborate to address cancer and tobacco control, and how these programs utilize their respective networks to cross-promote activities. The Partnership Study will be conducted in seven states that: (1) Are funded through both the NCCCP and the NTCP and (2) have an established relationship between the two programs.

Respondents for the Study of Comprehensive Cancer Control and Tobacco Control Program Partnerships will be state health department leaders, CCC and TCP staff (e.g., program directors, evaluation specialists, media specialists, quitline coordinators), and other stakeholders, such as coalition members. Information will be collected through in-person interviews involving approximately 15 respondents in each state. Respondents will be asked about key aspects of their program's structure and activities, including efforts to coordinate across the CCC-TCP structure and facilitators and/or barriers influencing CCC-TCP collaborations. The questions in each interview will be customized depending on the respondent's role. Each interview will last approximately 45 minutes to one hour.

CDC plans to request OMB approval for one year. The information to be collected in the Partnership Study will be used to develop examples of successful strategies used by selected CCCs and TCPs to cross-collaborate and cross-promote programs/services, and to identify new areas of potential collaboration that may be shared with CDC, other federal agencies, and other CCC and TCP states for replication.

The Partnership Study will complement and extend the usefulness of results to be obtained in a companion study titled “Comparing the Effectiveness of Traditional Evidence-Based Tobacco Cessation Interventions to Newer and Innovative Interventions Used by Comprehensive Cancer Control Programs.” Additional information about the companion project will be published in a separate Federal Register Notice. Both studies will be funded through the American Recovery and Reinvestment Act of 2009 (ARRA). There are no costs to respondents other than their time.

Estimated Annualized Burden Hours
Type of respondent | Form name | Total number of respondents | No. of responses per respondent | Average burden per response (in hours) | Total burden (in hours)
State Health Department Leadership | Interview Guide for Health Department Leadership | 7 | 1 | 45/60 | 5
CCC Programs | Site Visit Preparation | 7 | 1 | 45/60 | 5
Interview Guide for CCCs | 49 | 1 | 1 | 49
Tobacco Control Programs | Site Visit Preparation | 7 | 1 | 45/60 | 5
Interview Guide for TCPs | 49 | 1 | 1 | 49
Total |  |  |  | 113

Dated: June 1, 2011.
Daniel Holcomb,
Reports Clearance Officer, Centers for Disease Control and Prevention.

[FR Doc. 2011-14145 Filed 6-7-11; 8:45 am]

BILLING CODE;P